DEPARTMENT OF TRANSPORTATION

Federal Aviation Administration

14 CFR Part 71

[Docket No. FAA-2024-2511; Airspace Docket No. 24-ASW-21]

RIN 2120-AA66

Amendment of Class E Airspace; Austin, TX; Establishment of Class E Airspace; Austin, Lago Vista, and Lakeway, TX

AGENCY: Federal Aviation Administration (FAA), DOT.

ACTION: Final rule.

SUMMARY: This action amends the Class E airspace at Austin, TX, and establishes Class E airspace at Austin, Lago Vista, and Lakeway, TX. This action is the result of biennial airspace reviews. This action brings the airspace into compliance with FAA orders and supports instrument flight rule (IFR) procedures and operations.

DATES: Effective 0901 UTC, June 12, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes Class E airspace designated as an extension to the Class C surface area at Austin-Bergstrom International Airport, Austin, TX; amends the Class E airspace extending upward from 700 feet above the surface at Austin-Bergstrom International Airport and Austin Executive Airport, Austin, TX; and establishes Class E airspace extending upward from 700 feet above the surface at Lago Vista TX/Rusty Allen Airport, Lago Vista, TX, and Lakeway Airpark, Lakeway, TX, to bring the airspace into compliance with FAA orders and support IFR operations at these airports.

History

The FAA published an NPRM for Docket No. FAA-2024-2511 in the Federal Register (89 FR 95141; December 2, 2024) proposing to amend the Class E airspace at Austin, TX, and establish Class E airspace at Austin, Lago Vista, and Lakeway, TX. Interested parties were invited to participate in this rulemaking effort by submitting written comments on the proposal to the FAA. No comments were received.

Incorporation by Reference

Class E airspace designations are published in paragraphs 6003 and 6005 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This amendment to 14 CFR part 71:

Establishes Class E airspace extending upward from the surface designated as an extension to a Class C surface area within 2.2 miles each side of the 359° bearing from the Austin-Bergstrom INTL: RWY 18R-LOC extending from the 5-mile radius of Austin-Bergstrom International Airport to 7.1 miles north of the Austin-Bergstrom INTL: RWY 18R-LOC; and within 2 miles each side of the 359° bearing from the Austin-Bergstrom International Airport, Austin, TX, extending from the 5-mile radius of Austin-Bergstrom International Airport to 6 miles north of the Austin-Bergstrom International Airport;

Modifies the Class E airspace extending upward from 700 feet above the surface at Austin, TX, by removing the point of origin reference and the associated airspace as it is no longer required; removes Lakeway Airpark and the Lago-Vista Rusty Allen Airport and the associated airspace as the airspace will no longer adjoin the Austin, TX, Class E airspace and separate Class E airspace is being established for these airports; adds within a 7.5-mile radius of the Austin-Bergstrom International Airport; adds within 4 miles either side of the 179° bearing from the Austin-Bergstrom INTL: RWY 36R-GS extending from the 7.5-mile radius of Austin-Bergstrom International Airport to 7.7 miles south of the Austin-Bergstrom INTL: RWY 36R-GS; modifies within a 6.6-mile (increased from a 6.3-mile) radius of the Austin Executive Airport, Austin, TX; modifies within 2 miles each side of the 131° bearing from Austin Executive Airport extending from the 6.6-mile (previously 6.3-mile) radius of Austin Executive Airport to 11.2 (decreased from 11.3) miles southeast of the Austin Executive Airport; and modifies within 2 miles each side of the 311° bearing from the Austin Executive Airport extending from the 6.6-mile (previously 6.3-mile) radius of Austin Executive Airport to 10.9 (increased from 10.5) miles northwest of the Austin Executive Airport;

Establishes Class E airspace extending upward from 700 feet above the surface within a 7-mile radius of Lago Vista TX/Rusty Allen Airport, Lago Vista, TX;

And establishes Class E airspace extending upward from 700 feet above the surface within a 6.8-mile radius of Lakeway Airport, Lakeway, TX.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6003 Class E Airspace Areas Designated as an Extension.

* * * * *

ASW AR E3 Austin, TX [Establish]

Austin-Bergstrom International Airport, TX

(Lat. 30°11′40″ N, long. 97°40′12″ W)

Austin-Bergstrom INTL: RWY 18R-LOC, TX

(Lat. 30°11′36″ N, long. 97°40′42″ W)

That airspace extending upward from the surface within 2.2 miles each side of the 359° bearing from the Austin-Bergstrom INTL: RWY 18R-LOC extending from the 5-mile radius of Austin-Bergstrom International Airport to 7.1 miles north of the Austin-Bergstrom INTL: RWY 18R-LOC; and within 2 miles each side of the 359° bearing from the Austin-Bergstrom International Airport extending from the 5-mile radius of Austin-Bergstrom International Airport to 6 miles north of the Austin-Bergstrom International Airport.

* * * * *

Paragraph 6005 Class E Airspace Areas Extending Upward From 700 Feet or More Above the Surface of the Earth.

* * * * *

ASW TX E5 Austin, TX [Amended]

Austin-Bergstrom International Airport, TX

(Lat. 30°11′40″ N, long. 97°40′12″ W)

Austin-Bergstrom INTL: RWY 36R-GS, TX

(Lat. 30°10′54″ N, long. 97°39′22″ W)

Austin Executive Airport, TX

(Lat. 30°23′51″ N, long. 97°33′59″ W)

That airspace extending upward from 700 feet above the surface within a 7.5-miles radius of the Austin-Bergstrom International Airport; and within 4 miles either side of the 179° bearing from the Austin-Bergstrom INTL: RWY 36R-GS extending from the 7.5-mile radius of Austin-Bergstrom International Airport to 7.7 miles south of the Austin-Bergstrom INTL: RWY 36R-GS; and within a 6.6-mile radius of Austin Executive Airport; and within 2 miles each side of the 131° bearing from Austin Executive Airport extending from the 6.6-mile radius of Austin Executive Airport to 11.2 miles southeast of Austin Executive Airport; and within 2 miles each side of the 311° bearing from Austin Executive Airport extending from the 6.6-mile radius of Austin Executive Airport to 10.9 miles northwest of Austin Executive Airport.

* * * * *

ASW TX E5 Lago Vista, TX [Establish]

Lago Vista TX/Rusty Allen Airport, TX

(Lat. 30°29′55″ N, long. 97°58′10″ W)

That airspace extending upward from 700 feet above the surface within a 7-mile radius of the Lago Vista TX/Rusty Allen Airport.

* * * * *

ASW TX E5 Lakeway, TX [Establish]

Lakeway Airpark, TX

(Lat. 30°21′27″ N, long. 97°59′40″ W)

That airspace extending upward from 700 feet above the surface within a 7-mile radius of the Lakeway Airpark.

* * * * *

Issued in Fort Worth, Texas, on February 19, 2025.
Martin A. Skinner,
Acting Manager, Operations Support Group, ATO Central Service Center.

[FR Doc. 2025-02975 Filed 2-21-25; 8:45 am]

BILLING CODE 4910-13-P